FEDERAL MARITIME COMMISSION

Notice of Agreements Filed

The Commission hereby gives notice of filing of the following agreements under the Shipping Act of 1984. Interested parties may submit comments, relevant information, or documents regarding the agreements to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of agreements are available through the Commission's website (www.fmc.gov) or by contacting the Office of Agreements at (202)-523-5793 or tradeanalysis@fmc.gov.

Agreement No.: 201228-003.

Agreement Name: Port of Seattle/Port of Tacoma Alliance Agreement.

Parties: Port of Seattle; Port of Tacoma.

Filing Party: Juliet Campbell; The Northwest Seaport Alliance.

Synopsis: The Amendment updates the Charter to clarify certain issues related to finances, litigation and insurance practices, and process related to negotiations and funding of tribal agreements. The Amendment also restates the Agreement.

Proposed Effective Date: 9/18/2023.

Location: https://www2.fmc.gov/FMC.Agreements.Web/Public/AgreementHistory/2077.

Dated: August 11, 2023.
William Cody,
Secretary.

[FR Doc. 2023-17595 Filed 8-15-23; 8:45 am]

BILLING CODE 6730-02-P